DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Automated Export System (AES).

OMB Control Number: 0607-0152.

Form Number(s): AES, AESDirect, AESWeblink.

Type of Request: Revision of a currently approved collection.

Burden Hours: 791,607.

Number of Respondents: 288,747.

Average Hours per Response: 3 minutes per AES record.

Needs and Uses: The Census Bureau requires mandatory filing of all export information via the Automated Export System (AES). This requirement is mandated through Public Law 107-228, of the Foreign Trade Relations Act of 2003. This law authorizes the Secretary of Commerce with the concurrences of the Secretary of State and the Secretary of Homeland Security to require all persons who file export information according to Title 13, United States Code (U.S.C.), Chapter 9, to file such information through the AES.

The AES record provides the means for collecting data on U.S. exports. Title 13, U.S.C., Chapter 9, Sections 301-307, mandates the collection of these data. The regulatory provisions for the collection of these data are contained in the FTR, Title 15, Code of Federal Regulations (CFR), Part 30. The official export statistics collected from these tools provide the basic component for the compilation of the U.S. position on merchandise trade. These data are an essential component of the monthly totals provided in the U.S. International Trade in Goods and Services Press Release, a principal economic indicator and a primary component of the Gross Domestic Product (GDP).

These data collected from the AES record are also used for export control purposes under Title 50, U.S.C., Export Administration Act, to detect and prevent the export of certain items by unauthorized parties or to unauthorized destinations or end users.

The information collected via the AES shows what is being exported (description and commodity classification number), how much is exported (quantity, shipping weight, and value), how it is being exported (mode of transport, exporting carrier, and whether containerized), from where (state of origin and port of export), to where (port of unloading and country of ultimate destination), and when a commodity is exported (date of exportation). The identification of the U.S. Principal Party in Interest (USPPI) shows who is exporting goods for consumption (control purposes), while the USPPI and/or the forwarding or other agent information provides a contact for verification of the information.

The proposed changes will require the addition of new data elements in the AES as well as modifications to current data elements. The fields that will be added/modified are conditional data elements. Therefore, these data elements will only be required if that element applies to the specific shipment being exported. In addition, AES filings will be mandatory for shipments of all used self-propelled vehicles and household goods regardless of value or country of destination.

The additional data elements include name and address of the end user, and ultimate consignee type. The addition of these conditional fields will support the export control initiative of enforcement agencies by helping to detect and prevent the export of items by unauthorized parties or to unauthorized destinations or end users. However, these conditional data elements will have limited impact on burden response time since entering information for the end user and consignee type is based on the knowledge the exporter has at the time of export. Therefore, if that information is not known, the filer is not required to report the information.

Additional data elements that will be included are license applicant address, license value, and country of origin. Also, the equipment number field will be revised to require the container number for all containerized cargo. For shipments where a license is required, the address of the license applicant will be required to be reported. The license value per commodity classification will be required to be reported in addition to the value that is currently captured in the AES. Currently, only six percent of records filed require a license. For shipments where the origin of the commodity is foreign, the country of origin will be required to be reported. Currently, 17 percent of records filed contain goods of foreign origin. For shipments where the method of transportation (MOT) is containerized vessel cargo, the container number will be required to be reported in the equipment number field. Currently, 19 percent of records filed are reported as containerized. Individually, completing these conditional fields will not affect respondent burden significantly. Each additional field affects only a percentage of the shipments that are required to be reported in the AES. The mandatory requirement to file used self-propelled vehicles as defined in Title 19, CFR, § 192.1 will increase the number of shipments requiring an AES record by approximately three percent. The increase in required filings for household goods is negligible. This is due to the fact that shipments of household goods have been historically low. Although the number of shipments that will have to be filed will increase slightly, it is critical to capture this information for the purposes of export control under Title 50, U.S.C., Export Administration Act, to detect and prevent the export of certain items by unauthorized parties or to unauthorized destinations or end users.

The revisions should not affect the average three-minute response time for the completion of the AES record. The additional time required to complete new fields in the AES record is offset by constant advances in technology and heightened knowledge of filers since the implementation of mandatory electronic filing in 2008.

The Census Bureau will allow the trade community to continue using the current AES until the actual implementation of the revised Foreign Trade Regulations (FTR) occurs. Implementation of the revised FTR is expected to take place in the fourth quarter of 2011 or the first quarter of 2012. On January 21, 2011, the Census Bureau published the Notice of Proposed Rulemaking (RIN Number 0607-AA50) in the Federal Register to notify the trade community of proposed revisions to the FTR.

The information is used by the Federal Government and the private sector. The Federal Government uses every data element on the AES record for statistical purposes, export control, and/or to obtain data to avoid taking additional surveys.

Data collected from the AES serves as the official record of export transactions. In addition, the mandatory use of the AES enables the U.S. Government to produce more accurate export statistics. Currently, the mandatory use of the AES allows the BIS and the CBP to enforce the Export Administration Regulations for the detection and prevention of exports of high technology commodities to unauthorized destinations; the enforcement of the International Traffic in Arms Regulations (ITAR) by the U.S. Department of State; and the validation of the Kimberly Process Certificate for the export of rough diamonds. The Census Bureau delegated the authority to enforce the FTR to the BIS's Office of Export Enforcement along with the Department of Homeland Security's (DHS) CBP and Immigrations and Customs Enforcement (ICE).

Other Federal agencies use these data to develop the components of the merchandise trade figures used in the calculations for the balance of payments and GDP accounts to evaluate the effects of the value of U.S. exports; to plan and examine export promotion programs and agricultural development and assistance programs; and to prepare for and assist in trade negotiations under the General Agreement on Tariffs and Trade. Collection of these data also eliminate the need for conducting additional surveys for the collection of information as the AES shows the relationship of the parties to the export transaction (as required by the Bureau of Economic Analysis). These AES data are also used by the Bureau of Labor Statistics as a source for developing the export price index and by the U.S. Department of Transportation for administering the negotiation of reciprocal arrangements for transportation facilities between the United States and other countries.

A collaborative effort amongst the Census Bureau, the National Governors' Association and other data users resulted in the development of export statistics requiring the state of origin to be reported on the AES. The information collected enables state governments to focus activities and resources on fostering exports of the kinds of goods that originate in their states.

Export statistics collected from the AES aid private sector companies, financial institutions, and transportation entities in conducting market analysis and market penetration studies for the development of new markets and market-share strategies. Port authorities, steamship lines, steamship freight conferences, airlines, aircraft manufacturers, and air transport associations use these data for measuring the volume and effect of air or vessel shipments and the need for additional or new types of facilities.

Affected Public: Business or other for-profit.

Frequency: On occasion.

Respondent's Obligation: Mandatory.

Legal Authority: Title 13, U.S.C., Chapter 9, Sections 301-307; Title 15, Code of Federal Regulations (CFR), Part 30.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: April 5, 2011.
Glenna Mickelson,
Management Analyst, Office of the Chief Information Officer.

[FR Doc. 2011-8472 Filed 4-8-11; 8:45 am]

BILLING CODE 3510-07-P